SMALL BUSINESS ADMINISTRATION

United Capital Investment Corporation; Notice of Surrender of License

Notice is hereby given that United Capital Investment Corporation, 450 Seventh Avenue, Suite 933, New York, New York 10123, has surrendered their license to operate as a small business investment company under the Small Business Investment Act of 1958, as amended (the Act). United Capital Investment Corporation was licensed by the Small Business Administration on February 5, 1985.

Under the authority vested by the Act and pursuant to the Regulations promulgated thereunder, the surrender was accepted on this date and accordingly, all rights, privileges, and franchises derived therefrom have been terminated.

(Catalog of Federal Domestic Assistance Program No. 59.11, Small Business Investment Companies)

Dated: January 3, 2001.
Don A. Christensen,
Associate Administrator for Investment.

[FR Doc. 01-903 Filed 1-10-01; 8:45 am]

BILLING CODE 8025-01-P